DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: National Voluntary Conformity Assessment System Evaluation (NVCASE) Program.

Form Number(s): None.

OMB Approval Number: 0693-0019.

Type of Request: Regular submission.

Burden Hours: 30.

Number of Respondents: 10.

Average Hours Per Response: 3.

Needs and Uses: This information is required by NIST to evaluate laboratories, certification bodies, quality system registrars, and accreditation entities that apply for recognition to provide services to U.S. manufacturers. The information collected is essential to enable NIST to thoroughly evaluate applicant's conformance with all the requirements of 15 CFR part 286. The manufacturers' products must satisfy mandatory regulations of the importing country prior to import.

Affected Public: Business or other for-profit organizations; not-for-profit institutions.

Frequency: Annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jacqueline Zeiher, OMB Desk Officer, FAX number (202) 395-5806, or JZeiher@omb.eop.gov.

Dated: August 30, 2005.
Gwellnar Banks,
Management Analyst, Office of the Chief Information Officer.

[FR Doc. 05-17577 Filed 9-2-05; 8:45 am]

BILLING CODE 3510-13-P